DEPARTMENT OF LABOR

Employment and Training Administration

Notice of Determination Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of December, 2001.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,239; W.G. Benjey, Inc., Alpena, MI

TA-W-39,739; MEMC Southwest, Sherman, TX

TA-W-40,245; 3M Co., Guin, AL

TA-W-39,640; ABC-NACO, Inc., Superior, WI

In the following cases, the investigation revealed that the criteria for eligibility have not been met for the reasons specified.

Increased imports did not contribute importantly to worker separations at the firm.

TA-W-40,033; Kraft Foods North America, Inc., Lehigh Valley, PA

The investigation revealed that criteria (2) has not been met. Sales or production did not decline during the relevant period as required for certification.

TA-W-40,345; Bombardier Transportation, 1200 Lebanon Road, Pittsburgh, PA, A; Bombardier Transportation, 1501 Lebanon Church Road, Pittsburgh, B; 2001 Lebanon Road, Pittsburgh, PA

Affirmative Determinations for Worker Adjustment Assistance

The following certifications have been issued; the date following the company name and location of each determination references the impact date for all workers of such determination.

TA-W-39,194; Miami Richard Grading, Inc., Medley, FL: April 25, 2000.

TA-W-39,217; Brillcast, Inc., Grand Rapids, MI: April 25, 2000.

TA-W-39,484; Cooper Wood Products, Rocky Mount, VA: May 1, 2000.

TA-W-39,643; Precision Mold, Inc., Kent, WA: June 26, 2000.

TA-W-40,057; Virginia Glove, Glade Spring, VA: August 31, 2000.

TA-W-39,721; Parker Hannifin Corp., Engineered Seals Div., Goshen, IN: July 13, 2000.

TA-W-39,812; Acro Industries, Inc., Elmgrove Road, Rochester, NY: July 29, 2000.

TA-W-40,083; Hooker Furniture Corp., Martinsville, VA: September 7, 2000.

TA-W-40,226; Columbian Rope Co., Guntown, MS: September 25, 2000.

TA-W-40,225; Thermatex Corp., Newton Falls, OH: October 3, 2000.

TA-W-40,298; Aventis Crop Science, USA, Mt. Pleasant, TN: October 22, 2000.

TA-W-40,430; Vesuvius USA, Employed at LTV Steel Co., Cleveland, OH: November 5, 2000.

TA-W-40,440; Cardinal Brands, Inc., Hazel Promotional Products, Washington, MO: October 22, 2000.

TA-W-40,199; Washington Group International, Mining Unit, Boise, ID, Employed at Equatorial Tonopah, Inc., Tonapah, NV: September 26, 2000.

Also, pursuant to Title V of the North American Free Trade Agreement Implementation Act (Pub.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of December, 2001.

In order for an affirmative determination to be made and certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05332; Mercury Marine, Brunswick Corp., Fond du Lac, WI

NAFTA-TAA-05501; Huhtamaki, Food Services Div., Formerly Known as Packaging Resources, Mt. Carmel, PA

NAFTA-TAA-05481; Texfi Industries, Jefferson, GA

NAFTA-TAA-05405; W.G. Benjey, Inc., Alpena, MI

NAFTA-TAA-05471; Syst-A-Matic Tool and Design, Inc., Meadville, PA

NAFTA-TAA-05514; Pennsylvania Tool and Gages, Inc., Meadville, PA

NAFTA-TAA-05605; Hershey Foods Corp., Pennsburg, PA

NAFTA-TAA-05291; Kraft Foods North America, Inc., Lehigh Valley, PA

NAFTA-TAA-05060; ABC-NACO, Inc., Superior, WI

NAFTA-TAA-05037; Precision Mold, Inc., Kent, WA

NAFTA-TAA-05218; Chipman Union, Inc., Union Point, GA

NAFTA-TAA-05327; Parker Hannifin Corp., Brass Department, Otsego, MI

NAFTA-TAA-04569; Blount, Inc., Prentice, WI

NAFTA-TAA-05298; Craftsman Fabrics, Phoenix Mills, Concord, NC

NAFTA-TAA-04914; Boss Industries, Inc., Erie, PA

NAFTA-TAA-05453; Fibermark, Inc., Rochester, MI

The workers firm does not produce an article as required for certification under Section 250(a), Subchapter D, Chapter 2, Title II, the Trade Act of 1974, as amended.

NAFTA-TAA-05512; Sunbrand, A Div. Of Wilcox and Gibbs, Inc., Norcross, GA

Affirmative Determinations NAFTA-TAA

NAFTA-TAA-05136; Federal Mogul Corp., Powertrain Systems, St. Johns, MI: July 26, 2000.

NAFTA-TAA-05473; Madill Corp., Kalama, WA: October 25, 2000.

NAFTA-TAA-05419; Thermatex Corp., Newton Falls, OH: August 28, 2000.

NAFTA-TAA-05028; Parker Hannifin Corp., Engineered Seals Div., Goshen, IN: June 29, 2000.

NAFTA-TAA-05497; Cardinal Brands, Inc., Hazel Promotional Products, Washington, MO: October 23, 2000.

NAFTA-TAA-05538; Leased Workers of Employment Group at St. Clair Technologies, Charlotte, MI: November 2, 2000.

NAFTA-TAA-05569; NACCO Materials Handling Group, Inc., Americas Div., Greenville, NC: November 15, 2000.

NAFTA-TAA-04932; Kentucky Electric Steel, Ashland, KY: April 25, 2000.

NAFTA-TAA-05425; Solectron Corp., Durham, NC: October 9, 2000.

I hereby certify that the aforementioned determinations were issued during the month of December, 2001. Copies of these determinations are available for inspection in room C-5311, U.S. Department of Labor, 200 Constitution Avenue, NW., Washington, DC 20210 during normal business hours or will be mailed to persons who write to the above address.

Dated: January 2, 2002.
Edward A. Tomchick,
Director, Division of Trade Adjustment Assistance.

[FR Doc. 02-719 Filed 1-11-02; 8:45 am]

BILLING CODE 4510-30-M